DEPARTMENT OF COMMERCE

National Oceanic and Atmospheric Administration

RIN 0648-XA105

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Archipelagic Plan Team (APT) and the Data Collection Subpanel (DCSP) of the Fishery Data Collection and Research Committee—Technical Committee (FDCRC-TC) by web conference to discuss fishery management issues and develop recommendations for future management of fisheries in the Western Pacific Region.

DATES: The APT will be held on April 20-22, 2020. The DCSP will be held on April 23-24, 2020. For specific times and agendas, see SUPPLEMENTARY INFORMATION.

ADDRESSES: The meetings will be held by web conference. Audio and visual portions of the web conference can be accessed at: https://wprfmc.webex.com/join/info.wpcouncilnoaa.gov. Web conference access information will also be posted on the Council's website at www.wpcouncil.org. For assistance with the web conference connection, contact the Council office at (808) 522-8220.

FOR FURTHER INFORMATION CONTACT: Kitty M. Simonds, Executive Director, Western Pacific Fishery Management Council; phone: (808) 522-8220 (voice) or (808) 522-8226 (fax).

SUPPLEMENTARY INFORMATION: The APT meeting will be held on April 20-22, 2020, from 1 p.m. to 5 p.m. Hawaii Standard Time (HST) (noon to 4 p.m. Samoa Standard Time (SST); 9 a.m. to 1 p.m. on April 21- 23, 2020, Chamorro Standard Time (ChST)). The FDCRC-TC DCSP meeting will be held on April 23-24, 2020, from 1 p.m. to 5 p.m. HST (noon to 4 p.m. SST; 9 a.m. to 1 p.m. on April 24-25, 2020 ChST). Opportunities to present oral public comment will be provided throughout the agendas. The order of the agenda may change, and will be announced in advance at the meetings. The meetings may run past the scheduled times noted above to complete scheduled business.

Agenda for the Archipelagic Plan Team Meeting

Monday, April 20, 2020, 1 p.m. to 5 p.m. HST (noon-4 p.m. SST; Tuesday, April 21, 2020, 9 a.m.-1 p.m. ChST)

1. Welcome and introductions

2. Approval of draft agenda

3. Report on previous Plan Team recommendations and Council actions

4. Plan Team 101: Who Are We, What We Do, and Role in the Process?

5. 2019 Annual Stock Assessment and Fishery Evaluation (SAFE) Report

A. Fishery Performance

1. Archipelagic fisheries modules

a. American Samoa

1. Bottomfish fishery

2. Ecosystem component fisheries

b. Guam

1. Bottomfish fishery

2. Ecosystem component fisheries

c. Commonwealth of the Northern Mariana Islands (CNMI)

1. Bottomfish fishery

2. Ecosystem component fisheries

d. Hawaii

1. Bottomfish fishery

2. Crustacean fishery

3. Precious coral fishery

4. Ecosystem component fisheries

5. Non-commercial fisheries

2. Discussions

3. Public Comment

Tuesday, April 21, 2020, 1 p.m. to 5 p.m. HST (noon-4 p.m. SST; Wednesday, April 22, 2020, 9 a.m.-1 p.m. ChST)

B. Ecosystem Considerations

1. Protected species section

2. Climate, ecosystems and biological section

a. Environmental & climate variables

b. Life history and length-derived variables

c. Biomass estimates for Coral Reef Ecosystem Components

3. Habitat section

4. Socioeconomics section

5. Marine Planning section

6. Discussions

7. Public Comment

C. Administrative Reports

1. Number of federal permits

2. Regulatory actions in 2019

3. Discussions

4. Public Comment

Wednesday, April 22, 2020, 1 p.m. to 5 p.m. HST (noon-4 p.m. SST; Thursday, April 23, 2020, 9 a.m.-1 p.m. ChST)

6. Action agenda items

A. American Samoa Bottomfish Fishery

1. P* Working Group Report

2. Social, Economic, Ecological and Management Uncertainty (SEEM) Working Group Report

3. Alternatives for Annual Catch Limits (ACLs)

B. Options for the Hawaii Small-Boat Fishery Management

C. Discussions

D. Public Comment

7. Standardized Bycatch Reporting Methodology

8. Report on Consultation on the Revision of the Bottomfish Management Unit Species (BMUS) Complex

9. Implementing Electronic Self-Reporting for the Small Boat Fisheries

A. Small Boat Reporting Application

B. Coordination on Implementing the Reporting Apps in the Territories

C. Discussions

D. Public Comment

13. General Discussions

14. Fishery Ecosystem Plan Team Recommendations

15. Other Business

Agenda for the Fishery Data Collection and Research Committee—Technical Committee: Data Collection Subpanel

Thursday, April 23, 2020, 1 p.m. to 5 p.m. HST (noon-4 p.m. SST; Friday, April 24, 2020, 9 a.m.-1 p.m. ChST)

1. Welcome and introductions

2. Approval of draft agenda

3. Report on previous TC recommendations and Council actions

4. Status of the fishery dependent data collection improvement efforts

A. American Samoa

B. Guam

C. CNMI

D. Hawaii

E. Small Boat E-Reporting App

F. Western Pacific Fishery Information Network (WPacFIN) Initiatives

5. Marine Recreational Information Program (MRIP) Certification of Non-Commercial Fisheries Surveys

A. Hawaii Marine Recreational Fishing Surveys

B. Territory Shore-Based Creel Surveys

6. Discussions

7. Public Comment

Friday, April 24, 2020, 1 p.m.-5 p.m. HST (noon-4 p.m. SST; Saturday, April 25, 2020, 9 a.m.-1 p.m. ChST)

8. Finalizing the Implementation Plan for the Small-Boat E-Reporting App

9. Developing a Framework for Calibration and Transition

10. MRIP Related Agenda Items

A. Review of the State Partnership Plan

B. National Salt Water Angler Registry Memorandum of Agreement Review Plan

11. Discussions

12. Other Business

13. Public Comment

14. FDCRC-TC-DSP Recommendations

Special Accommodations

These meetings are accessible to people with disabilities. Please direct requests for sign language interpretation or other auxiliary aids to Kitty M. Simonds (see FOR FURTHER INFORMATION CONTACT section above) at least 5 days prior to the meeting date.

Authority: 16 U.S.C. 1801 et seq.

Dated: April 1, 2020.
Diane M. DeJames-Daly,
Acting Deputy Director, Office of Sustainable Fisheries, National Marine Fisheries Service.

[FR Doc. 2020-07134 Filed 4-3-20; 8:45 am]

BILLING CODE 3510-22-P